DEPARTMENT OF THE INTERIOR

Bureau of Indian Affairs

[178A2100DD/AAKC001030/A0A501010.999900 253G]

Renewal of Agency Information Collection for Grazing Permits

AGENCY: Bureau of Indian Affairs, Interior.

ACTION: Notice of submission to OMB.

SUMMARY: In compliance with the Paperwork Reduction Act of 1995, the Bureau of Indian Affairs (BIA) has submitted to the Office of Management and Budget (OMB) a request for renewal of the collection of information for Grazing Permits authorized by OMB Control Number 1076-0157. This information collection expires October 31, 2016.

DATES: Interested persons are invited to submit comments on or before November 7, 2016.

ADDRESSES: Please submit your comments to the Desk Officer for the Department of the Interior at the Office of Management and Budget, by facsimile to (202) 395-5806 or you may send an email to: OIRA_Submission@omb.eop.gov. Also please send a copy of your comments to David Edington, Office of Trust Services, 1849 C Street NW., Mail Stop 4637 MIB, Washington, DC 20240; facsimile: (202) 219-0006; email: David.Edington@bia.gov.

FOR FURTHER INFORMATION CONTACT: David Edington, Office of Trust Services, 1849 C Street NW., Mail Stop 4637 MIB, Washington, DC 20240; facsimile: (202) 219-0006; email: David.Edington@bia.gov. You may review the information collection request online at http://www.reginfo.gov. Follow the instructions to review Department of the Interior collections under review by OMB.

SUPPLEMENTARY INFORMATION:

I. Abstract

The “American Indian Agricultural Resource Management Act,” (AIARMA), 25 U.S.C. 3701 et seq., authorizes the Secretary of the Interior, in participation with the beneficial owner of the land, to manage Indian agricultural lands in a manner consistent with identified Tribal goals and priorities for conservation, multiple use, sustained yield, and consistent with trust responsibilities, related to grazing on Tribal land, individually-owned Indian land, or government land. The regulations at 25 CFR 166, Grazing Permits, implement the AIARMA and include the specific information collection requirements.

This information collection allows BIA to obtain the information necessary to determine whether an applicant is eligible to acquire, modify, or assign a grazing permit on trust or restricted lands and to allow a successful applicant to meet bonding requirements. Some of this information is collected on forms. The burden hours for this continued collection of information are reflected in the Estimated Total Annual Hour Burden in this notice.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0157.

Title: Grazing Permits, 25 CFR 166.

Brief Description of Collection: Submission of this information allows individuals or organizations to acquire or modify a grazing permit on Tribal land, individually-owned Indian land, or government land and to meet bonding requirements. Some of this information is collected on the following forms: Form 5-5423—Performance Bond, Form 5-5514—Bid for Grazing Privileges, 5-5515 Grazing Permit, Form 5-5516—Grazing Permit for Organized Tribes, Form 5-5517—Free Grazing Permit, Form 5-5519—Cash Penal Bond, Form 5-5520—Power of Attorney, Form 5- 5521—Certificate and Application for On-and-Off Grazing Permit, Form 5522—Modification of Grazing Permit, Form 5- 5523—Assignment of Grazing Permit, Form 5-5524—Application for Allocation of Grazing Privileges, 5-5525 Authority to Grant Grazing Privileges on Allotted Lands, Form 5-5528—Livestock Crossing Permit, and Form 5-5529—Removable Range Improvement Records. Response is required to obtain or retain a benefit.

Type of Review: Revision of a currently approved collection.

Respondents: Tribes, Tribal organizations, individual Indians, and non-Indian individuals and associations.

Number of Respondents: 800.

Number of Responses: 7,810.

Frequency of Response: Annually.

Obligation to Respond: A response is required to obtain or maintain a benefit.

Estimated Time per Response: Varies from 20 minutes to one hour, with an average of less than one hour per response.

Estimated Total Annual Hour Burden: 2,701.

Estimated Total Annual Non-Hour Dollar Cost: $0.

Elizabeth K. Appel,
Director, Office of Regulatory Affairs and Collaborative Action—Indian Affairs.

[FR Doc. 2016-24183 Filed 10-5-16; 8:45 am]

BILLING CODE 4337-15-P